NATIONAL AERONAUTICS AND SPACE ADMINISTRATION

[Notice: (13-130)]

NASA Advisory Council; Charter Renewal

AGENCY: National Aeronautics and Space Administration (NASA).

ACTION: Notice of renewal and amendment of the charter of the NASA Advisory Council.

SUMMARY: Pursuant to sections 14(b)(1) and 9(c) of the Federal Advisory Committee Act (Pub. L. 92-463), and after consultation with the Committee Management Secretariat, General Services Administration, the NASA Administrator has determined that renewal and amendment of the charter of the NASA Advisory Council is in the public interest in connection with the performance of duties imposed on NASA by law. The renewed charter is for a two-year period ending October 24, 2015. It is identical to the previous charter in all respects except with regard to information pertaining to annual operating costs and number of meetings per year.

FOR FURTHER INFORMATION CONTACT: Ms. P. Diane Rausch, Executive Director, NASA Advisory Council, Advisory Committee Management Division, Office of International and Interagency Relations, NASA Headquarters, Washington, DC 20546; phone: 202-358-4510; email: diane.rausch@nasa.gov.

Patricia D. Rausch,
Advisory Committee Management Officer, National Aeronautics and Space Administration.

[FR Doc. 2013-26713 Filed 11-6-13; 8:45 am]

BILLING CODE 7510-13-P